DEPARTMENT OF TRANSPORTATION

Federal Highway Administration

Environmental Impact Statement: Jackson County, Michigan

AGENCY: Federal Highway Administration (FHWA), DOT.

ACTION: Notice of Intent.

SUMMARY: The FHWA is issuing this notice to advise the public that an environmental impact statement will be prepared for a proposed I-94 Jackson Urban Area Study between M-60 and Sargent Road in Jackson County, Michigan.

FOR FURTHER INFORMATION CONTACT: Mr. James Kirschensteiner, Programs and Environmental Engineer, Federal Highway Administration, 315 W. Allegan Street, Room 207, Lansing, Michigan 48933, Telephone (517) 377-1880 or Mr. Ron Kinney, Manager, Environmental Section, Bureau of Transportation Planning, Michigan Department of Transportation, PO Box 30050, Lansing, Michigan 48909, Telephone (517) 335-2621.

SUPPLEMENTARY INFORMATION: The FHWA in cooperation with Michigan Department of Transportation (MDOT) will prepare an Environmental Impact Statement (EIS) on a proposal to improve I-94 in the Jackson Urban Area. The proposed study location is approximately 9 miles of the I-94 corridor commencing at the M-60/I-94BL interchange, then proceeding easterly to the Sargent Road interchange. Various rehabilitations and maintenance of this section of I-94 have occurred since its initial construction in 1949 to improve the ride quality and operational characteristics of the route, but it still remains suboptimal by modern day freeway standards. Alternatives under consideration include (1) do-nothing, and (2) widen from two lanes in each direction to three lanes in each direction. The proposed work will include interchange reconstruction.

Scoping documents describing the proposed action and soliciting comments will be sent to appropriate Federal, state, local agencies, private organizations, and citizens who have previously expressed or are known to have interest in this proposal. A series of public meetings will be held as well as a formal public hearing. Public notice will be given of the time and place of the meetings and hearing. The draft EIS will be available for public and agency review and comment prior to the public hearing. No formal scoping meeting is planned at this time.

Comments and suggestions are invited from all interested parties to insure that the full range of issues related to this proposed action are addressed and all significant issues are identified. Questions or comments concerning this proposed action and the EIS should be directed to the FHWA at the address provided above.

(Catalog of Federal Domestic Assistance Program Number 20.205, Highway Research, Planning, and Construction. The regulations implementing Executive Order 12372 regarding intergovernmental consultation on Federal programs and activities apply to this program.)

Issued on: November 28, 2000.
James J. Steele,
Division Administrator, Lansing, Michigan.

[FR Doc. 00-30920 Filed 12-4-00; 8:45 am]

BILLING CODE 4910-22-M